DEPARTMENT OF HEALTH AND HUMAN SERVICES

Health Resources and Services Administration

National Advisory Committee on Rural Health and Human Services; Notice of Meeting

In accordance with section 10(a)(2) of the Federal Advisory Committee Act (Pub. L. 92-463), announcement is made of the following National Advisory body scheduled to meet during the month of February 2011.

The National Advisory committee on Rural Health will convene its sixty-seventh meeting in the time and place specified below:

Name: National Advisory Committee on Rural Health and Human Services.

Dates and Times:

February 23, 2011, 8:45 a.m.-5 p.m.

February 24, 2011, 8:45 a.m.-4 p.m.

February 25, 2011, 8:45 a.m.-11:15 a.m.

Place: Omni Shoreham Hotel, 2500 Calvert Street, NW., Washington, DC 20008.

Phone: (202) 234-0700.

Status: The meeting will be open to the public.

Purpose: The National Advisory Committee on Rural Health and Human Services provides advice and recommendations to the Secretary with respect to the delivery, research, development and administration of health and human services in rural areas.

Agenda: Wednesday morning at 9 a.m. the meeting will be called to order by the Chairperson of the Committee, the Honorable Ronnie Musgrove. There will be an update from officials from the Department of Health and Human Services. This will be followed by a series of panel presentations on key provisions from the Affordable Care Act (ACA). The Committee will be examining the rural implications of several provisions from the ACA, including health insurance exchanges, the Maternal and Early Childhood Home Visitation program and the Community Living Assistance, Services and Support program. The day will conclude with a period of public comment at approximately 4:30 p.m.

Thursday morning at 9 a.m. the Committee will continue to hear panel presentations on ACA-related provisions and will then break into subcommittees on each of those topics for further discussion. The day will conclude with a period of public comment at approximately 4:30 p.m.

Friday morning at 9 a.m. the Committee will summarize key findings from the meeting and develop a work plan for the next quarter and the June meeting.

FOR FURTHER INFORMATION CONTACT: Thomas Morris, MPA, Executive Secretary, National Advisory Committee on Rural Health and Human Services, Health Resources and Services Administration, Parklawn Building, Room 10B-45, 5600 Fishers Lane, Rockville, MD 20857, Telephone (301) 443-0835, Fax (301) 443-2803.

Persons interested in attending any portion of the meeting should contact Tish Scolnick at the Office of Rural Health Policy (ORHP) via Telephone at (301) 443-0835, or by e-mail at nscolnick@hrsa.gov. The Committee meeting agenda will be posted on ORHP's Web site http://www.ruralhealth.hrsa.gov.

Dated: December 27, 2010,,
Robert Hendricks,
Director, Division of Policy and Information Coordination.

[FR Doc. 2010-33062 Filed 12-30-10; 8:45 am]

BILLING CODE P